SOCIAL SECURITY ADMINISTRATION

[Docket No. SSA-2017-0040]

Privacy Act of 1974; System of Records

AGENCY: Deputy Commissioner of Systems, Social Security Administration (SSA).

ACTION: Notice of a New System of Records.

SUMMARY: In accordance with the Privacy Act we are issuing public notice of our intent to establish a new system of records entitled, Customer Engagement Tools (CET) Record System (60-0383), hereinafter called the CET Record System. We will use this system to maintain the information we collect during our electronic communications with those individuals who have created a my Social Security account and have been authenticated to use online electronic services via the my Social Security web portal, and who choose to communicate with us using an electronic communication method, such as the Click-to-Chat tool. This notice publishes details of the system as set forth under the caption SUPPLEMENTARY INFORMATION.

DATES: The System of Records Notice (SORN) is applicable August 3, 2017, with the exception of the routine uses which are applicable [insert date]. We invite public comment on the routine uses or other aspects of this SORN. In accordance with 5 U.S.C. 552a(e)(4) and (e)(11), the public is given a 30-day period in which to submit comments. Therefore, please submit any comments by September 5, 2017.

ADDRESSES: The public, Office of Management and Budget (OMB), and Congress may comment on this publication by writing to the Executive Director, Office of Privacy and Disclosure, Office of the General Counsel, SSA, Room 617 Altmeyer Building, 6401 Security Boulevard, Baltimore, Maryland 21235-6401, or through the Federal e-Rulemaking Portal at http://www.regulations.gov. All comments we receive will be available for public inspection at the above address and we will post them to http://www.regulations.gov.

FOR FURTHER INFORMATION CONTACT: Pamela J. Carcirieri, Supervisory Government Information Specialist, Privacy Implementation Division, Office of Privacy and Disclosure, Office of the General Counsel, SSA, Room 617, Altmeyer Building, 6401 Security Boulevard, Baltimore, Maryland 21235-6401, telephone (410) 965-0355, email: Pamela.Carcirieri@ssa.gov or Elizabeth Boorstein, Government Information Specialist, Privacy Implementation Division, Office of Privacy and Disclosure, Office of the General Counsel, Social Security Administration, Room 617 Altmeyer Building, 6401 Security Boulevard, Baltimore, Maryland 21235-6401, telephone: (410) 966-2824, email: Elizabeth.Boorstein@ssa.gov.

SUPPLEMENTARY INFORMATION: We are establishing the CET Record System to cover information we collect about individuals who choose to use one of our electronic communication options to conduct business with SSA online. These communication options provide service to our customers, and will assist individuals who prefer to communicate with us in a dynamic and electronic environment.

In accordance with 5 U.S.C. 552a(r), we have provided a report to OMB and Congress on this new system of records.

Dated: April 3, 2017.
Mary Ann Zimmerman,
Acting Executive Director, Office of Privacy and Disclosure, Office of the General Counsel.

SYSTEM NAME AND NUMBER:

Customer Engagement Tools (CET) Record System, 60-0383.

SECURITY CLASSIFICATION:

Unclassified.

SYSTEM LOCATION:

Social Security Administration, Deputy Commissioner of Systems, Office of IT Business Support, Office of IT Enterprise Business Support, Robert M. Ball Building, 6401 Security Boulevard, Baltimore, MD 21235.

SYSTEM MANAGER(S):

Social Security Administration, Deputy Commissioner of Systems, Office of IT Business Support, Office of IT Enterprise Business Support, Robert M. Ball Building, 6401 Security Boulevard, Baltimore, MD 21235.

AUTHORITY FOR MAINTENANCE OF THE SYSTEM:

General authority to maintain the system is contained in sections 205(a) and 702(a)(5) of the Social Security Act, as amended (42 U.S.C. 405(a) and 902(a)(5)).

PURPOSE(S) OF THE SYSTEM:

We will use this system to maintain the information we collect during our electronic communications with individual's who choose to communicate with us via one of our electronic communication options to conduct business with SSA online. The CET Record System will allow us to better serve online users by providing informational and programmatic responses to authenticated my Social Security users via designated subject experts throughout the country.

Furthermore, transcripts and communication records may be used for employee performance assessments, employee conduct issues, and employee disciplinary actions. These materials may also be used to help determine individual employee, unit, and office-wide training needs, as well as the quality of responses, trends, public reactions to policies, legislation, and other public announcements. The transcripts and records may be used to train SSA management service observers to ensure uniform and consistent evaluation criteria and as documentation for any disciplinary and performance-based actions. The transcripts and records may be redacted of beneficiary information if the information is not relevant and necessary for this purpose, or changed to protect privacy, before use.

CATEGORIES OF INDIVIDUALS COVERED BY THE SYSTEM:

Individuals who have created a my Social Security account and have been authenticated to use online electronic services via the my Social Security web portal.

CATEGORIES OF RECORDS IN THE SYSTEM:

This system maintains information either provided by an individual or collected in transcripts and records during the electronic communication with a designated SSA employee. This information may include the individual's name, SSN, date of birth, parent name(s), address, and place of birth. Additional information may be included in the electronic communication, which may include information about an individual's Social Security benefits or other business the individual has with the agency. Information about the designated SSA employee will also be collected, including the employee's Personal Identification Number (PIN) and chosen display name.

RECORD SOURCE CATEGORIES:

We obtain information in this system from those individuals who choose to communicate with us using an electronic communication method. Depending on the individual's inquiry, we may also access individuals' information from other SSA sources, such as the Enumeration System, the Integrated Client Data Base, and the Title II systems, to help resolve their questions or concerns.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Service Code, unless authorized by statute, the Internal Revenue Service (IRS), or IRS regulations.

1. To a congressional office in response to an inquiry from that office made on behalf of, and at the request of, the subject of the record or third party acting on the subject's behalf.

2. To the Office of the President in response to an inquiry from that office made on behalf of, and at the request of, the subject of record or a third party acting on the subject's behalf.

3. To the Department of Justice (DOJ), a court or other tribunal, or another party before such court or tribunal, when:

(a) SSA, or any component thereof; or

(b) any SSA employee in his/her official capacity; or:

(c) any SSA employee in his/her individual capacity where DOJ (or SSA where it is authorized to do so) has agreed to represent the employee; or

(d) the United States or any agency thereof where SSA determines the litigation is likely to SSA or any of its components, is a party to the litigation or has an interest in such litigation, and SSA determines that the use of such records by DOJ, a court or other tribunal, or another party before the tribunal is relevant and necessary to the litigation, provided, however, that in each case, the agency determines that disclosure of the records to DOJ, court or other tribunal, or another party is a use of the information contained in the records that is compatible with the purpose for which the records were collected.

4. To contractors and other Federal agencies, as necessary, for assisting SSA in the efficient administration of its programs. We will disclose information under this routine use only when SSA enters into a contractual or similar agreement with the contractor or agency.

5. To student volunteers, individuals working under a personal services contract, and other workers who technically do not have the status of Federal employees, when they are performing work for SSA, as authorized by law, and they need access to personally identifiable information (PII) in SSA records in order to perform their assigned agency functions.

6. To Federal, State and local law enforcement agencies and private security contractors, as appropriate, information necessary:

(a) To enable them to protect the safety of SSA employees and customers, the security of the SSA workplace, and the operation of SSA facilities, or

(b) to assist in investigations or prosecutions with respect to activities that affect such safety and security or activities that disrupt the operation of SSA facilities.

7. To the National Archives and Records Administration (NARA) under 44 U.S.C. 2904 and 2906.

8. To appropriate Federal, State, and local agencies, entities, and persons when:

(a) We suspect or confirm that the security or confidentiality of information in this system of records has been compromised;

(b) we determine that, as a result of the suspected or confirmed compromise, there is a risk of harm to economic or property interests, identify theft or fraud, or harm to the security or integrity of this system or other systems or programs that rely upon the compromised information; and

(c) we determine that disclosing the information to such agencies, entities, and persons is necessary to assist in our efforts to respond to the suspected or confirmed compromise and prevent, minimize, or remedy such harm.

9. To another Federal agency or Federal entity, when the SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

10. To the Equal Employment Opportunity Commission when requested in connection with investigation into alleged or possible discriminatory practices in the Federal sector, examination of Federal afimative employment programs, compliance by Federal agencies with the Uniform Guidelines on Employee Selection Procedures, or other functions vested in the Commission.

11. To the Merit Systems Protection Board or the Office of Special Counsel in connection with appeals, special studies of the civil service and other merit systems, review of rules and regulations, investigations of alleged or possible prohibited personnel practices, and other such functions promulgated in 5 U.S.C. Chapter 12, or as may be required by law.

12. To the Federal Labor Relations Authority, the Office of the Special Counsel, the Federal Mediation and Conciliation Service, the Federal Service Impasses Panel, or an arbitrator requesting information in connection with the investigations of allegations of unfair practices, matters before an arbitrator or the Federal Service Impasses Panel.

POLICIES AND PRACTICES FOR STORAGE OF RECORDS:

We will maintain records in this system in paper and electronic form.

POLICIES AND PRACTICES FOR RETRIEVAL OF RECORDS:

We may retrieve records by the individual's name, the individual's SSN, topic of chat, date of communication, an employee's name, or an employee's personal identification number (PIN).

POLICIES AND PRACTICES FOR RETENTION AND DISPOSAL OF RECORDS:

These records are currently unscheduled. We retain records in accordance with NARA approved records schedules. In accordance with NARA rules codified at 36 CFR 1225.16, we maintain unscheduled records until NARA approves an agency-specific records schedule or publishes a corresponding General Records Schedule.

ADMINISTRATIVE, TECHNICAL, AND PHYSICAL SAFEGUARDS:

We retain electronic and paper files with personal identifiers in secure storage areas accessible only by our authorized employees and contractors who have a need for the information when performing their official duties. Security measures include, but are not limited to, the use of codes and profiles, PIN and password, and personal identification verification cards. We keep paper records in locked cabinets within secure areas, with access limited to only those employees who have an official need for access in order to perform their duties.

We annually provide our employees and contractors with appropriate security awareness training that includes reminders about the need to protect PII and the criminal penalties that apply to unauthorized access to, or disclosure of, PII (5 U.S.C. 552a(i)(1)). Furthermore, employees and contractors with access to databases maintaining PII must sign a sanctions document annually, acknowledging their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include (1) a notarized statement to us to verify their identity or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

None.

[FR Doc. 2017-16331 Filed 8-2-17; 8:45 am]

BILLING CODE 4191-02-P